AGENCY FOR INTERNATIONAL DEVELOPMENT

Board for International Food and Agricultural Development; Notice Of Meeting

Pursuant to the Federal Advisory Committee Act, notice is hereby given of the public meeting of the Board for International Food and Agricultural Development (BIFAD). The meeting will be held from 1:00 p.m. to 3:00 p.m. MDT on Thursday, April 9, 2015 and then from 8:30 a.m. to 12:45 p.m. MDT on Friday, April 10, 2015 in the Ballroom A of the Strand Union Building at Montana State University, P.O. Box 174140, Bozeman, Montana.

Beginning on Thursday, April 9th, BIFAD will hear from presenters during three sessions. Starting at 1:00 p.m. MDT, the Tropical Agriculture Research and Higher Education Center (CATIE) will provide an update. Presenters will be Dr. Jose Joaquin Campos, Director General of CATIE, and Dr. I. Miley Gonzalez, Deputy Director General.

The second presentation for the day will start at 1:45 p.m., BIFAD will hear from a panel on Effective Developments for Enhanced Nutrition in Smallholder Farming. Presenters will be Montana State University Faculty: Dr. David Sands, Professor, Plant Pathology, Dr. Edward Dratz, Professor, Chemistry & Biochemistry, and Dr. Florence Dunkel, Associate Professor, Entomology.

Rob Bertram, Chief Scientist, USAID Bureau for Food Security will lead the third presentation, providing an update and highlights of the current research priorities for the Presidential Feed the Future Initiative. After this presentation BIFAD Chair Deaton will adjourn the public meeting for the day.

Friday, April 10th, the public meeting will resume at 8:30 a.m. MDT in the Strand Union Building. The meeting will be streamed live on the Internet. The link to the global live stream is on BIFAD's home page: http://www.usaid.gov/bifad.

Dr. Brady Deaton, BIFAD Chair, will preside over the public business meeting, which will begin promptly at 8:30 a.m. MDT with opening remarks. Dr. Waded Cruzado, BIFAD Board Member and President of Montana State University, will deliver welcoming remarks. At this public meeting, the Board will address old and new business and hear updates from USAID, the university community, and other experts on progress and mechanisms for advancing programming in agricultural research and capacity development. BIFAD Board Member Gebisa Ejeta will present a status report for the human and institutional capacity development (HICD) working group.

Starting at 10:00 a.m., a Dean from MSU will moderate the panel discussion to inform BIFAD and the public of the Tribal Colleges' activities and how it benefits agriculture both domestically and abroad. Presenters for this panel are Dr. Billie Jo Kipp, President, Blackfeet Community College and Dr. David Yarlott, President, Little Big Horn College.

Following this presentation, BIFAD and members of the public are invited to spend 30 minutes walking through the Montana State University (MSU) Global Agriculture poster display.

The final presentation of the morning will focus on Decision Making to Enhance Food Security and Resilience. This panel will bring together experts from Montana State University to share their experiences, success stories, and provide discussion on best practices. Presenters for this panel are Dr. Sarah Janzen, Associate Professor, Agricultural Economics, Dr. Selena Ahmed, Associate Professor, Health & Human Development, and Dr. Eric Raile, Assistant Professor, Political Science.

At 12:15 p.m., Chairman Deaton will moderate a half-hour public comment period. At 12:45 p.m. MDT Dr. Brady Deaton, BIFAD Chair, will make closing remarks and adjourn the public meeting.

Those wishing to attend the meeting or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC 20523-2110 or telephone her at (202) 712-0218.

Susan Owens,
Executive Director and USAID Designated Federal Officer for BIFAD, Bureau for Food Security, U.S. Agency for International Development.

[FR Doc. 2015-06783 Filed 3-24-15; 8:45 am]

BILLING CODE P